DEPARTMENT OF TRANSPORTATION

Federal Aviation Administration

14 CFR Part 71

[Airspace Docket No. 99-ASW-33]

RIN 2120-AA66

Realignment of Jet Route; TX

AGENCY: Federal Aviation Administration (FAA), DOT.

ACTION: Final rule; correction.

SUMMARY: This action corrects a final rule published in the Federal Register on June 14, 2000 (Airspace Docket No. 99-ASW-33). The legal description of Jet Route 25 (J-25) contained an inadvertent error between the Corpus Christi, TX, Very High Frequency Omnidirectional Range/Tactical Air Navigation (VORTAC) and the San Antonio, TX, VORTAC. This action corrects that error.

EFFECTIVE DATE: July 5, 2000.

FOR FURTHER INFORMATION CONTACT: Bil Nelson, Airspace and Rules Division, ATA-400, Office of Air Traffic Airspace Management, Federal Aviation Administration, 800 Independence Avenue, SW., Washington, DC 20591; telephone: (202) 267-8783.

SUPPLEMENTARY INFORMATION: On June 14, 2000, Airspace Docket No. 99-ASW-33, FR Doc. 00-14909, was published amending the legal description of J-25 between the Corpus Christi, TX, VORTAC and the San Antonio, TX, VORTAC (65 FR 37277). This rule inadvertently listed the true bearing between Corpus Christi, TX, and San Antonio, TX, as “166° .” The correct true bearing is “174°.” The correct true bearing was listed in the Notice of Proposed Rulemaking for this matter.

Correction to Final Rule

Accordingly, pursuant to the authority delegated to me, the legal description for J-25 as published in the Federal Register on June 24, 2000 (65 FR 37277), FR Doc. 00-14909, and incorporated by reference in 14 CFR 71.1, is corrected as follows:

§ 71.1 [Corrected]

Paragraph 2004 Jet Routes

* * * * *

J-25 [Revised]

From the INT of the United States/Mexican Border and the Brownsville, TX, INT 221° radial via Brownsville; INT of the Brownsville 358° and the Corpus Christi, TX, 178° radials; Corpus Christi; INT of the Corpus Christi 311° and the San Antonio, TX, 174° radials; San Antonio; Centex, TX; Waco, TX; Ranger, TX; Tulsa, OK; Kansas City, MO; Des Moines, IA; Mason City, IA; Gopher, MN; Brainerd, MN; to Winnipeg, MB, Canada. The airspace within Canada is excluded. The airspace within Mexico is excluded.

* * * * *

Issued in Washington, DC, on June 27, 2000.
Reginald C. Matthews,
Manager, Airspace and Rules Division

[FR Doc. 00-16915 Filed 7-3-00; 8:45 am]

BILLING CODE 4910-13-P